DEPARTMENT OF TRANSPORTATION

Federal Highway Administration

Notice of Final Federal Agency Actions on Proposed Interstate 495 (Long Island Expressway) Rest Area Upgrade Project Between Exits 51 & 52 (Eastbound) in the Town of Huntington, Suffolk County, New York

AGENCY: Federal Highway Administration (FHWA), DOT.

ACTION: Notice of Limitation on Claims for Judicial Review of Actions by FHWA.

SUMMARY: This notice announces actions taken by FHWA and other Federal agencies that are final within the meaning of 23 U.S.C. 139(l)(1). The actions relate to the proposed Interstate 495 (Long Island Expressway) Rest Area Upgrade Project between Exits 51 & 52 (eastbound) in the Town of Huntington, Suffolk County, New York (NYSDOT Project Identification Number: 0229.14). Those actions rescind the Record of Decision (ROD) and the Final Environmental Impact Statement (FEIS) dated May 21, 2007. The ROD was signed by FHWA on August 6, 2007.

DATES: By this notice, FHWA is advising the public of final agency actions subject to 23 U.S.C. 139(l)(1). A claim seeking judicial review of the Federal agency actions on the highway project will be barred unless the claim is filed on or before 150 days after publication of this notice in the Federal Register.

FOR FURTHER INFORMATION CONTACT: Peter Osborn, Division Administrator, Federal Highway Administration, New York Division, Leo W. O'Brien Federal Building, Suite 719, Clinton Avenue and North Pearl Street, Albany, New York 12207. Telephone (518) 431-4127

SUPPLEMENTARY INFORMATION: Notice is hereby given that FHWA has taken final agency actions subject to 23 U.S.C. 139(l)(1) by issuing a Rescission of the Record of Decision and a Rescission of the Final Environmental Impact Statement (FEIS) for the proposed Interstate 495 (Long Island Expressway) Rest Area Upgrade Project between Exits 51 & 52 (eastbound) in the Town of Huntington, Suffolk County, New York. The FHWA, as the lead Federal agency, in cooperation with the New York State Department of Transportation (NYSDOT) signed a ROD on August 6, 2007, for the proposed Interstate 495 (Long Island Expressway) Rest Area Upgrade Project between Exits 51 & 52 (eastbound). The proposed project evaluated alternatives for upgrading the existing rest area for cars and trucks located on I-495/LIE eastbound between Exits 51 and 52. Since the ROD was signed, NYSDOT notified FHWA that Federal funds will not be utilized during the final design and construction of the project. Therefore, FHWA has determined that the ROD and the Final Environmental Impact Statement dated May 21, 2007, will be rescinded since there will be no Federal action, and the requirements of the National Environmental Policy Act pursuant to 42 U.S.C. 4321, et seq. and 23 Code of Federal Regulations 771 no longer apply.

This notice applies to all Federal agency decisions as of the issuance date of this notice and all laws under which such actions were taken, including but not limited to:

1. General: National Environmental Policy Act (NEPA) [42 U.S.C. 4321-4351]; Federal-Aid Highway Act [23 U.S.C. 109 and 23 U.S.C. 128].

2. Air: Clean Air Act [42 U.S.C. 7401-7671(q)].

3. Land: Section 4(f) of the Department of Transportation Act of 1966 [49 U.S.C. 303]; Landscaping and Scenic Enhancement (Wildflowers) [23 U.S.C. 319].

4. Wildlife: Endangered Species Act [16 U.S.C. 1531-1544 and Section 1536]; Marine Mammal Protection Act [16 U.S.C. 1361]; Fish and Wildlife Coordination Act [16 U.S.C. 661-667(d)]; Migratory Bird Treaty Act [16 U.S.C. 703-712].

5. Historic and Cultural Resources: Section 106 of the National Historic Preservation Act of 1966, as amended [16 U.S.C. 470(f) et seq.]; Archeological Resources Protection Act of 1977 [16 U.S.C. 470(aa)-470(ll)]; Archeological and Historic Preservation Act [16 U.S.C. 469-469(c)]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act (FPPA) [7 U.S.C. 4201-4209].

7. Wetlands and Water Resources: Clean Water Act (Section 404, Section 401, Section 319) [33 U.S.C. 1251-1377]; Land and Water Conservation Fund (LWCF) [16 U.S.C. 4601-4604]; Safe Drinking Water Act (SDWA) [42 U.S.C. 300(f)-300(j)(6)]; Rivers and Harbors Act of 1899 [33 U.S.C. 401-406]; Wild and Scenic Rivers Act [16 U.S.C. 1271-1287]; Emergency Wetlands Resources Act, [16 U.S.C. 3921, 3931]; Wetlands Mitigation [23 U.S.C. 103(b)(6)(M) and 133(b)(11)]; Flood Disaster Protection Act, 42 U.S.C. 4001-4128.

8. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139(l)(1)

Issued on: September 12, 2016.
Peter Osborn,
Division Administrator, Federal Highway Administration, Albany, New York.

[FR Doc. 2016-22700 Filed 9-22-16; 8:45 am]

BILLING CODE 4910-RY-P